DEPARTMENT OF HEALTH AND HUMAN SERVICES

Food and Drug Administration

[Docket No. 00C-1444]

FEM, Inc.; Withdrawal of Color Additive Petition

AGENCY: Food and Drug Administration, HHS.

ACTION: Notice.

SUMMARY: The Food and Drug Administration (FDA) is announcing the withdrawal, without prejudice to a future filing, of a color additive petition (CAP 0C0272) proposing that the color additive regulations be amended to eliminate the limitation on the amount of silver used as a color additive in fingernail polish.

FOR FURTHER INFORMATION CONTACT: James C. Wallwork, Center for Food Safety and Applied Nutrition (HFS-215), Food and Drug Administration, 200 C St. SW., Washington, DC 20204, 202-418-3078.

SUPPLEMENTARY INFORMATION: In a notice published in the Federal Register of August 18, 2000 (65 FR 50543), FDA announced that a color additive petition (CAP 0C0272) had been filed by FEM, Inc., 1521 Laguna St., # 210, Santa Barbara, CA 93101. The petition proposed to amend the color additive regulations in § 73.2500 Silver (21 CFR 73.2500) to eliminate the limitation on the amount of silver used as a color additive in fingernail polish. FEM, Inc., has now withdrawn the petition without prejudice to a future filing (21 CFR 71.6(c)(2)).

Dated: August 13, 2001.
Alan M. Rulis,
Director, Office of Premarket Approval, Center for Food Safety and Applied Nutrition.

[FR Doc. 01-21245 Filed 8-22-01; 8:45 am]

BILLING CODE 4160-01-S